DEPARTMENT OF AGRICULTURE

Office of the Under Secretary, Research, Education, and Economics; Notice of the Advisory Committee on Biotechnology and 21st Century Agriculture Meeting

AGENCY: Agricultural Research Service, USDA.

ACTION: Notice of public meeting.

SUMMARY: Pursuant to the Federal Advisory Committee Act, 5 U.S.C. App. 2, the United States Department of Agriculture announces a meeting of the Advisory Committee on Biotechnology and 21st Century Agriculture (AC21). The committee is being convened to: consider work of the three ad hoc subgroups on the progress of their analyses relevant to the new AC21 charge; discuss a draft outline for the committee's next report and selected draft content, including a draft guidance document for producers and a draft model for facilitating local conversations around coexistence; and continue overall discussions on the committee charge and planning the completion of its work.

DATES: The meeting will be held on Monday-Tuesday, June 13-14, 2016, 8:30 a.m. to 5:00 p.m. each day. This meeting is open to the public. On June 13, 2016, if time permits, reasonable provision will be made for oral presentations of no more than five minutes each in duration, starting at 3:30 p.m. Members of the public who wish to make oral statements should also inform Dr. Schechtman in writing or via Email at the indicated addresses below at least three business days before the meeting.

ADDRESSES: U.S. Access Board Conference Room, 1331 F Street NW., Suite 800, Washington, DC 20004.

FOR FURTHER INFORMATION CONTACT: General information about the committee can also be found at http://www.usda.gov/wps/portal/usda/usdahome?navid=BIOTECH_AC21&navtype=RT&parentnav=BIOTECH. However, Michael Schechtman, Designated Federal Official, Office of the Deputy Secretary, USDA, 202B Jamie L. Whitten Federal Building, 12th and Independence Avenue SW., Washington, DC 20250; Telephone (202) 720-3817; Fax (202) 690-4265; Email AC21@ars.usda.gov may be contacted for specific questions about the committee or this meeting.

SUPPLEMENTARY INFORMATION: The AC21 has been established to provide information and advice to the Secretary of Agriculture on the broad array of issues related to the expanding dimensions and importance of agricultural biotechnology. The committee is charged with examining the long-term impacts of biotechnology on the U.S. food and agriculture system and USDA, and providing guidance to USDA on pressing individual issues, identified by the Office of the Secretary, related to the application of biotechnology in agriculture. In recent years, the work of the AC21 has centered on the issue of coexistence among different types of agricultural production systems. The AC21 consists of members representing the biotechnology industry, the organic food industry, farming communities, the seed industry, food manufacturers, state government, consumer and community development groups, as well as academic researchers and a medical doctor. In addition, representatives from the Department of Commerce, the Department of Health and Human Services, the Environmental Protection Agency, the Council on Environmental Quality, and the Office of the United States Trade Representative serve as “ex officio” members.

In its last report, issued on November 17, 2012, entitled “Enhancing Coexistence: A Report to the Secretary of Agriculture,” and available on the Web site listed below, the AC21 offered a diverse package of recommendations, among which was a recommendation that “ . . . USDA should facilitate development of joint coexistence plans by neighboring farmers,” and that in a pilot program, USDA should, among other things, offer incentives for the development of such plans.

At its meeting on December 14-15, 2015, USDA offered a specific new charge to the AC21 building on its previous work. Recognizing that USDA currently lacks the legal authority to offer any such incentives, the committee has been charged with considering the following two questions: Is there an approach by which farmers could be encouraged to work with their neighbors to develop joint coexistence plans at the State or local level? If so, how might the Federal government assist in that process?

At the AC21's last meeting, on March 14-15, 2016, AC21 members reached a general agreement on the main content elements of the upcoming report. In devising their approach to respond to this charge, the AC21 has established 3 ad hoc subgroups to gather and analyze information and options for the full committee's consideration. These address: development of a guidance document which could be made available to farmers and other stakeholders; potential models for facilitating conversations around coexistence and potential available incentives; and potential venues and conveners of coexistence conversations.

The three objectives for the meeting are:

• To consider work of the three ad hoc subgroups on the progress of their analyses relevant to the new AC21 charge;

• to discuss a draft outline for the committee's next report and selected draft content, including a draft guidance document for producers and a draft model for facilitating local conversations around coexistence; and

• to continue overall discussions on the committee charge and planning the completion of its work.

Background information regarding the work and membership of the AC21 is available on the USDA Web site at http://www.usda.gov/wps/portal/usda/usdahome?contentid=AC21Main.xml&contentidonly=true.

Register for the Meeting: The public is asked to pre-register for the meeting at least 10 business days prior to the meeting. Your pre-registration must state: the names of each person in your group; organization or interest represented; the number of people planning to give oral comments, if any; and whether anyone in your group requires special accommodations. Submit registrations to Ms. Dianne Fowler at (202) 720-4074 or by Email at Dianne.fowler@ars.usda.gov by May 25, 2016. The Agricultural Research Service will also accept walk-in registrations. Members of the public who request to give oral comments to the Committee, must arrive by 8:45 a.m. on June 13, 2016 and will be given their allotted time limit and turn at the check-in table.

Public Comments: Written public comments may be mailed to Michael Schechtman, Designated Federal Official, Office of the Deputy Secretary, USDA, 202B Jamie L. Whitten Federal Building, 12th and Independence Avenue SW., Washington, DC 20250; via fax to (202) 690-4265 or email to AC21@ars.usda.gov. All written comments must arrive by June 8, 2016. Oral comments are also accepted. To request to give oral comments, see instructions under “Register for the Meeting” above.

Availability of Materials for the Meeting: All written public comments will be compiled into a binder and available for review at the meeting. Duplicate comments from multiple individuals will appear as one comment, with a notation that multiple copies of the comment were received. Please visit the Web site listed above to learn more about the agenda for or reports resulting from this meeting.

Meeting Accommodations: The meeting will be open to the public, but space is limited. USDA is committed to ensuring that all employees are included in our work environment, programs and events. If you are a person with a disability and request reasonable accommodations to participate in this meeting, please note the request in your registration. All reasonable accommodation requests are managed on a case by case basis.

Issued at Washington, DC, this 2nd day of May.
Ann M. Bartuska,
Deputy Under Secretary, Research, Education and Economics.

[FR Doc. 2016-10807 Filed 5-6-16; 8:45 am]

BILLING CODE 3410-03-P